DEPARTMENT OF HEALTH AND HUMAN SERVICES

Indian Health Service

Division of Behavioral Health, Office of Clinical and Preventive Services Domestic Violence Prevention Initiative

Announcement Type: New Single Source

Funding Announcement Number: HHS-2018-IHS-DVPI-0001

Catalog of Federal Domestic Assistance Number: 93.933

Key Dates

Application Deadline Date: July 1, 2018.

Review Date: July 9-11, 2018.

Earliest Anticipated Start Date: July 15, 2018.

Signed Tribal Resolutions Due Date: July 1, 2018.

Proof of Non-Profit Status Due Date: July 1, 2018.

I. Funding Opportunity Description

Statutory Authority

The Indian Health Service (IHS) Office of Clinical and Preventive Services (OCPS), Division of Behavioral Health (DBH), is accepting an application for a single source grant with the Oglala Sioux Tribe (OST) to continue the expansion of advocacy and shelter services for domestic and sexual violence on the Pine Ridge Reservation under the Domestic Violence Prevention Program Initiative (DVPI). The DVPI was first established by the Omnibus Appropriations Act of 2009, Public Law 111-8, 123 Stat. 524, 735, and continued in the annual appropriations acts since that time. This program is authorized under the authority of 25 U.S.C. 13, the Snyder Act, and the Indian Health Care Improvement Act, at 25 U.S.C. 1665a and 1665m. This program is described in the Catalog of Federal Domestic Assistance under 93.933.

Background

The DBH serves as the primary source of national advocacy, policy development, management and administration of behavioral health, alcohol and substance abuse, and family violence prevention programs. The DVPI promotes the development of evidence-based and practice-based models that represent culturally appropriate prevention and treatment approaches to domestic and sexual violence from a community-driven context. IHS proposes to enter into a single source grant with the OST based on prior collaboration between the IHS and the OST during the DVPI pilot project years 2010-2015 to expand advocacy services to victims of domestic and sexual violence (DSV) including shelter, and emergency housing.

Purpose

The purpose of this Single Source grant is to provide funding to assist victims of DSV on the Pine Ridge Reservation. Specifically, IHS is requesting an application that will enhance or expand the OST's crisis response efforts, shelter and emergency housing services, and/or training and technical assistance opportunities. Examples of grant activities may include:

• Purchase of modular buildings to expand shelter services.

• Emergency travel and transportation costs to surrounding shelters.

• Training for staff and/or individuals delivering DSV services.

• Technical assistance.

Single Source Justification

The OST is identified as the single source for this grant based on funding allocated by the IHS to benefit the OST from the 2010-2015 DVPI. The OST exceeded expectations as a partner during the DVPI pilot in responding to the needs of victims of DSV in the servicing area of the OST and is the best resource to continue expansion on the proposed services in this announcement.

II. Award Information

Type of Award

Grant.

Estimated Funds Available

The total amount of funding identified for this project is approximately $920,000. Submitted application should not exceed the total amount of available funding and should be divided over two years in the budget portion of the application. The IHS is under no obligation to make awards that are selected for funding under this announcement.

Anticipated Number of Awards

One application will be accepted under this announcement for OST and only one award will be issued.

Period of Performance

The period of performance is for two years and will run consecutively from July 15, 2018, to July 14, 2020.

III. Eligibility Information

1. Eligibility

The award is offered as a single source grant to the OST.

2. Cost Sharing or Matching

The IHS does not require matching funds or cost sharing for grants or cooperative agreements.

3. Other Requirements

Funding for year one should focus on program planning and development and the year two focus should be on program implementation. If the application budget exceeds the highest dollar amount outlined under the Estimated Funds Available section within this funding announcement, the application will be considered ineligible and will not be reviewed for further consideration. If deemed ineligible, IHS will not return the application. The applicant will be notified by email by the Division of Grants Management (DGM) of this decision.

Tribal Resolution

An official signed Tribal resolution from the OST must be received by the DGM prior to a Notice of Award (NoA) being issued to the applicant for funding. However, if an official signed Tribal resolution cannot be submitted with the electronic application submission prior to the official application deadline date, a draft Tribal resolution must be submitted by the deadline in order for the application to be considered complete and eligible for review. The draft Tribal resolution is not in lieu of the required signed resolution, but is acceptable until a signed resolution is received. If an official signed Tribal resolution is not received by DGM when funding decisions are made, then a NoA will not be issued to the applicant and they will not receive any IHS funds until such time as they have submitted a signed resolution to the Grants Management Specialist listed in this funding announcement.

Proof of Non-Profit Status

If the OST is claiming non-profit status they must submit proof. A copy of the 501(c)(3) Certificate must be received with the application submission by the Application Deadline Date listed under the Key Dates section on page one of this announcement.

The applicant submitting any of the above additional documentation after the initial application submission due date is required to ensure the information was received by the IHS DGM by obtaining documentation confirming delivery (i.e. FedEx tracking, postal return receipt, etc.).

IV. Application and Submission Information

1. Obtaining Application Materials

The application package and detailed instructions for this announcement can be found at http://www.grants.gov or http://www.ihs.gov/dgm/funding/.

Questions regarding the electronic application process may be directed to Mr. Paul Gettys at (301) 443-2114 or (301) 443-5204.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Categorical Budget and Budget Justification (must be single-spaced and not exceed 5 pages).

• Project Narrative (must be single-spaced and not exceed 15 pages).

○ OST background information.

○ Proposed scope of work, objectives, and activities that provide a description of what will be accomplished, including a two-page Timeline Chart.

• Tribal Resolution(s).

• Letters of Support from OST Tribal Council.

• 501(c)(3) Certificate (if applicable).

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart.

• Documentation of current Office of Management and Budget (OMB) Financial Audit. Acceptable forms of documentation include:

○ Email confirmation from Federal Audit Clearinghouse (FAC) that audits were submitted; or

○ Face sheets from audit reports. These can be found on the FAC website at https://harvester.census.gov/facdissem/main.aspx.

Public Policy Requirements

All Federal-wide public policies apply to IHS grants and cooperative agreements with exception of the Discrimination Policy.

Requirements for Project and Budget Narratives

A. Project Narrative: This narrative should be a separate Word document that is no longer than 15 pages and must: be single-spaced, type written, have consecutively numbered pages, use black type not smaller than 12 point, and be printed on one side only of standard size 8-½″ × 11″ paper.

Be sure to succinctly answer all questions listed under the evaluation criteria (refer to Section V.1, Evaluation criteria in this announcement) and place all responses and required information in the correct section (noted below), or they will not be considered or scored. These narratives will assist the Objective Review Committee (ORC) in becoming familiar with the applicant's activities and accomplishments prior to this possible grant award. If the narrative exceeds the page limit, only the first 15 pages will be reviewed. The narrative does not include the work plan, standard forms, Tribal resolutions, table of contents, categorical budget and budget justification, and/or other appendix items.

There are four parts to the narrative: Part A—Goals and Objectives; Part B—Project Activities; Part C—Timeline Chart; and Part D—Organizational Capacity, Staffing/Administration.

Below are additional details about what must be included in the narrative and the page limitations for each narrative and budget submitted.

Part A: Goals and Objectives (3 Page Limit)

• Describe the purpose of the proposed project that includes a clear statement of goals.

• Outline the goals and objectives for the grant project.

Part B: Project Activities (6 Page Limit)

• Clearly outline all project activities that align with the applicant's goals and objectives.

• Describe anticipated barriers to progress of the project and how the barriers will be addressed.

• Identify any other programs, agencies, or organizations that will participate in the proposed project. Describe their roles, responsibilities, and demonstrate their commitment to the project. Include a list of these organizations as an attachment to the application. In the attached list, indicate the organizations that the Tribe has worked with or currently works with. [Note: The attachment will not count as part of the 15-page maximum.]

Part C: Timeline (2 Page Limit)

Provide a timeline chart for two years depicting a realistic timeline for the period of performance showing key activities, milestones, and responsible staff. [Note: The timeline chart should be included as part of the project narrative as specified here. It should not be placed as an attachment.]

Part D: Organizational Capacity and Staffing/Administration (4 Page Limit)

• Describe the management capability and experience of the OST in administering similar grants and projects.

• Discuss the OSTs experience and capacity to provide culturally appropriate/competent services to victims of DSV.

• Describe the resources available for the proposed project (e.g., facilities, equipment, information technology systems, and financial management systems).

• Describe how project continuity will be maintained if/when there is a change in the operational environment (e.g., staff turnover, change in project leadership, change in elected officials) to ensure project stability over the life of the grant.

• Provide a complete list of staff positions for the project, including the project director, project coordinator, and other key personnel, showing the role of each and their level of effort and qualifications.

• Include position descriptions as attachments to the project proposal/application for the project director, project coordinator, and all key personnel. Position descriptions should not exceed one page each. [Note: Attachments will not count against the 15 page maximum.]

• For individuals that are identified and currently on staff, include a biographical sketch for the project director, project coordinator, and other key positions as attachments to the project proposal/application. Each biographical sketch should not exceed one page. [Note: Attachments will not count against the 15 page maximum.] Do not include Personally Identifiable Information, Resumes, or Curriculum Vitae.

B. Categorical Budget and Budget Justification

This narrative must include a line item budget with a narrative justification for all expenditures identifying reasonable allowable, allocable costs necessary to accomplish the goals and objectives as outlined in the project narrative. Budget should match the scope of work described in the project narrative and should not exceed 5 pages. [Note: The categorical budget and budget justification does not count against the project narrative page maximum of 15 pages.]

3. Submission Dates and Times

The application must be submitted electronically through Grants.gov by 11:59 p.m. Eastern Daylight Time (EDT) on the Application Deadline Date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Gettys (paul.gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

4. Intergovernmental Review

Executive Order 12372 requiring intergovernmental review is not applicable to this program.

5. Funding Restrictions

• Pre-award costs are not allowable.

• The available funds are inclusive of direct and appropriate indirect costs.

• Only one grant will be awarded to the applicant.

• IHS will not acknowledge receipt of application.

• It is acceptable to include administrative costs for planning.

6. Electronic Submission Requirements

The application must be submitted electronically. Please use the following website, http://www.grants.gov to submit an application electronically and select the “Find Grant Opportunities” link on the homepage. Follow the instructions for submitting an application under the Package tab. Electronic copies of the application may not be submitted as attachments to email messages addressed to IHS employees or offices.

If the applicant needs to submit a paper application instead of submitting electronically through Grants.gov, a waiver must be requested. Prior approval must be requested and obtained from Mr. Robert Tarwater, Director, DGM, (see Section IV.6 below for additional information). A written waiver request must be sent to grantspolicy@ihs.gov with a copy to robert.tarwater@ihs.gov. The waiver must: (1) Be documented in writing (emails are acceptable), before submitting a paper application, and (2) include clear justification for the need to deviate from the required electronic grants submission process.

Once the waiver request has been approved, the applicant will receive a confirmation of approval email containing submission instructions and the mailing address to submit the application. A copy of the written approval must be submitted along with the hardcopy of the application that is mailed to DGM. The paper application that are submitted without a copy of the signed waiver from the Director of the DGM will not be reviewed or considered for funding. The applicant will be notified via email of this decision by the Grants Management Officer of the DGM. The paper application must be received by the DGM no later than 5:00 p.m. EDT on the Application Deadline Date listed in the Key Dates section on page one of this announcement. A late application will not be accepted for processing or considered for funding. Applicants that do not adhere to the timelines for System for Award Management (SAM) and/or http://www.grants.gov registration or that fail to request timely assistance with technical issues will not be considered for a waiver to submit a paper application.

Please be aware of the following:

• Please search for the application package in http://www.grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• Applicants are strongly encouraged not to wait until the deadline date to begin the application process through https://www.grants.gov as the registration process for SAM and Grants.gov could take up to 15 working days.

• Please use the optional attachment feature in Grants.gov to attach additional documentation that may be requested by the DGM.

• All applicants must comply with any page limitation requirements described in this funding announcement.

• After electronically submitting the application, the applicant will receive an automatic acknowledgment from Grants.gov that contains a Grants.gov tracking number. The DGM will download the application from Grants.gov and provide necessary copies to the appropriate agency officials. Neither the DGM nor the Office of Clinical and Preventive Services, Division of Behavioral Health will notify the applicant that the application has been received.

• An emailed application will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, you may access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy website: http://www.ihs.gov/dgm/policytopics/.

V. Application Review Information

The instructions for preparing the application narrative also constitute the evaluation criteria for reviewing and scoring the application. Weights assigned to each section are noted in parentheses. The 15 page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:

1. Criteria

Your application will be reviewed and scored according to the quality of responses to the required application components in Sections A-E:

Part A—Introductions and Need for Assistance.

Part B—Project Objective(s), Work Plan and Approach.

Part C—Program Evaluation.

Part D—Organizational Capacity, Staffing/Administration.

Part E—Categorical Budget and Budget Justification.

A. Introduction and Need for Assistance (History and Current Situation) (15 Points)

This section should demonstrate knowledge of concerns and issues regarding DSV specific to the OST. Identify the proposed catchment area and provide demographic information on the population to receive services. Describe the stakeholders and resources in the catchment area providing services to victims of DSV.

• Describe the need to increase the capacity to implement, sustain, and improve effective DSV services including shelter and emergency housing consistent with the purpose of the program.

• Describe the existing service gaps, barriers, and other systemic challenges related to the need for planning and capacity building and coordination of DSV services.

B. Project Objective(s), Work Plan and Approach (35 Points)

This section should demonstrate a sound and effective annual work plan that will support accomplishment of deliverables and milestones of the project. The work plan should be designed to:

• Describe the purpose of the proposed project.

• Affirm the goals of the project are consistent with priorities of the Tribal government and support of this application.

• Describe how project activities will increase the capacity to serve victims of DSV.

• Describe potential project partners and community resources in the catchment area that can participate in the planning process and capacity building.

• Describe anticipated barriers to progress of the project and how these barriers will be addressed.

• Provide a timeline chart depicting a realistic timeline for the entire period of performance showing key activities, milestones, and responsible staff. [Note: The timeline chart should be part of the project narrative as specified in the “Requirements for Project Proposals” section. It should not be placed in as an attachment.]

C. Program Evaluation (15 Points)

• Define the criteria to be used to evaluate planning activities.

• Clearly describe the methodologies and parameters that will be used to determine if the needs identified are being met and if the outcomes identified are being achieved.

• Ensure the goals and objectives are measurable and consistent with the purpose of the program and meet the needs of the people to be served.

• Ensure the measurement includes activities that will lead to sustainability.

D. Organizational Capabilities, Key Personnel and Qualifications (20 Points)

• Describe the management capability and experience of the OST in administering similar grants and projects.

• Identify the department/division that will administer this project. Include a description of this entity, its function, and its placement within the organization.

• Describe how project continuity will be maintained if/when there is a change in the operational environment (e.g., staff turnover, change in project leadership, change in elected officials) to ensure project stability over the life of the grant.

• Provide a list of staff positions for the project.

• Include position descriptions as attachments to the application for the behavioral health staff, project director, project coordinator, and all key personnel. Position descriptions should not exceed one page each.

• For individuals that are currently on staff, include a biographical sketch for each individual that will be listed as the behavioral health staff, project director, project coordinator, and other key positions. Describe the experience of identified staff in domestic violence and sexual assault work in the community/communities. Include each biographical sketch as attachments to the project proposal/application. Biographical sketches should not exceed one page per staff member. Reviewers will not consider information past page one. Do not include Personally Identifiable Information, Resumes, or Curriculum Vitae.

E. Categorical Budget and Budget Justification (15 Points)

• Include a line item budget for all expenditures identifying reasonable and allowable costs necessary to accomplish the goals and objectives as outlined in the project narrative for both budget years. The budget should match the scope of work described in the project narrative for the first budget year expenses only.

• The applicant must provide a budget narrative justification of the items included in the proposed line item budget.

• Applicants should ensure that the budget and budget narrative are aligned with the project narrative. The categorical budget and budget justification the applicant provides will be considered by reviewers in assessing the applicant's submission, along with the material in the project narrative.

• The categorical budget and budget justification must detail the grantee's estimated first year budget for project planning and activities and second year budget for program implementation not to exceed the total award amount of $920,000.

• The categorical budget and budget justification must not exceed 5 single-spaced pages. [Note: The categorical budget and budget justification does not count against the project narrative page maximum of 15 pages.]

Additional Documents Can Be Uploaded as Appendix Items in Grants.gov

• Work plan and time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened by the DGM staff for eligibility and completeness as outlined in the funding announcement. An application that meets the eligibility criteria will be reviewed for merit by the ORC based on evaluation criteria in this funding announcement. The ORC could be composed of both Tribal and Federal reviewers appointed by the IHS Program to review and make recommendations on your application. The technical review process ensures selection of quality projects in a national competition for limited funding. An incomplete application that is non-responsive to the eligibility criteria will not be referred to the ORC. The applicant will be notified via email of this decision by the Grants Management Officer of the DGM. Applicants will be notified by DGM, via email, to outline minor missing components (i.e., budget narratives, audit documentation, key contact form) needed for an otherwise complete application. All missing documents must be sent to DGM on or before the due date listed in the email of notification of missing documents required.

To obtain a minimum score for funding by the ORC, applicants must address all program requirements and provide all required documentation.

VI. Award Administration Information

1. Award Notices

The NoA is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, the budget period, and the period of performance.

Disapproved Applicants

Applicants who received a score less than the recommended funding level for approval, 60 and were deemed to be disapproved by the ORC, will receive an Executive Summary Statement from the IHS program office within 30 days of the conclusion of the ORC outlining the strengths and weaknesses of their application. The summary statement will be sent to the Authorized Organizational Representative that is identified on the face page (SF-424) of the application. The IHS program office will also provide additional contact information as needed to address questions and concerns as well as provide technical assistance if desired.

Approved But Unfunded Applicant

An approved but unfunded applicant that meets the minimum scoring range and was deemed by the ORC to be “Approved”, but was not funded due to a lack of funds, will have their application held by DGM for a period of one year. If additional funding becomes available during the course of FY 2018 the approved but unfunded application may be re-considered by the awarding program office for possible funding. The applicant will also receive an Executive Summary Statement from the IHS program office within 30 days of the conclusion of the ORC.

Note: Any correspondence other than the official NoA signed by an IHS grants management official announcing to the project director that an award has been made to their organization is not an authorization to implement their program on behalf of IHS.

2. Administrative Requirements

Grants are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) https://www.doi.gov/ibc/services/finance/indirect-cost-services/indian-tribes. For questions regarding the indirect cost policy, please call the Grants Management Specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: 1) the imposition of special award provisions; and 2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required annually, within 30 days after the budget period ends. These reports must include a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. It is recommended that the applicant also send a copy of the FFR (SF-425) report to the Grants Management Specialist. Failure to submit timely reports may cause a disruption in timely payments to the organization.

Grantees are responsible and accountable for accurate information being reported on all required reports: the Progress Reports and Federal Financial Report.

C. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: 1) the period of performance start date was October 1, 2010, or after, and 2) the primary awardee will have a $25,000 sub-award obligation dollar threshold during any specific reporting period will be required to address the FSRS reporting.

For the full IHS award term implementing this requirement and additional award applicability information, visit the DGM Grants Policy website at http://www.ihs.gov/dgm/policytopics/.

D. Compliance With Executive Order 13166 Implementation of Services

Accessibility Provisions for All Grant Application Packages and Funding Opportunity Announcements

Recipients of federal financial assistance (FFA) from HHS must administer their programs in compliance with federal civil rights law. This means that recipients of HHS funds must ensure equal access to their programs without regard to a person's race, color, national origin, disability, age and, in some circumstances, sex and religion. This includes ensuring your programs are accessible to persons with limited English proficiency. HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under federal civil rights laws at https://www.hhs.gov/ocr/about-us/contact-us/index.html or call (800) 368-1019 or TDD (800) 537-7697. Also note it is an HHS Departmental goal to ensure access to quality, culturally competent care, including long-term services and supports, for vulnerable populations. For further guidance on providing culturally and linguistically appropriate services, recipients should review the National Standards for Culturally and Linguistically Appropriate Services in Health and Health Care at https://minorityhealth.hhs.gov/omh/browse.aspx?lvl=2&lvlid=53.

Pursuant to 45 CFR 80.3(d), an individual shall not be deemed subjected to discrimination by reason of his/her exclusion from benefits limited by federal law to individuals eligible for benefits and services from the IHS.

Recipients will be required to sign the HHS-690 Assurance of Compliance form which can be obtained from the following website: http://www.hhs.gov/sites/default/files/forms/hhs-690.pdf, and send it directly to the: U.S. Department of Health and Human Services, Office for Civil Rights, 200 Independence Ave. SW, Washington, DC 20201.

E. Federal Awardee Performance and Integrity Information System (FAPIIS)

The IHS is required to review and consider any information about the applicant that is in the Federal Awardee Performance and Integrity Information System (FAPIIS) at https://www.fapiis.gov before making any award in excess of the simplified acquisition threshold (currently $150,000) over the period of performance. An applicant may review and comment on any information about itself that a federal awarding agency previously entered. IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a federal award to disclose, in a timely manner, in writing to the IHS or pass-through entity all violations of federal criminal law involving fraud, bribery, or gratuity violations potentially affecting the federal award.

Submission is required for all applicants and recipients, in writing, to the IHS and to the HHS Office of Inspector General all information related to violations of federal criminal law involving fraud, bribery, or gratuity violations potentially affecting the federal award. 45 CFR 75.113.

Disclosures must be sent in writing to: U.S. Department of Health and Human Services, Indian Health Service, Division of Grants Management, ATTN: Robert Tarwater, Director, 5600 Fishers Lane, Mail Stop: 09E70, Rockville, MD 20857, (Include “Mandatory Grant Disclosures” in subject line), Office: (301) 443-5204, Fax: (301) 594-0899, Email: robert.tarwater@ihs.gov.

And

U.S. Department of Health and Human Services, Office of Inspector General, ATTN: Mandatory Grant Disclosures, Intake Coordinator, 330 Independence Avenue SW, Cohen Building, Room 5527, Washington, DC 20201.

URL: http://oig.hhs.gov/fraud/report-fraud/index.asp (Include “Mandatory Grant Disclosures” in subject line) Fax: (202) 205-0604 (Include “Mandatory Grant Disclosures” in subject line) or Email: mandatorygranteedisclosures@oig.hhs.gov.

Failure to make required disclosures can result in any of the remedies described in 45 CFR 75.371 Remedies for noncompliance, including suspension or debarment (See 2 CFR parts 180 & 376 and 31 U.S.C. 3321).

VII. Agency Contacts

1. Questions on the programmatic issues may be directed to: Selina T. Keryte, Public Health Analyst, DVPI National Coordinator, Division of Behavioral Health, 5600 Fishers Lane, Mail Stop: 08N34, Rockville, MD 20857, Phone: (301) 443-7064, Fax: (301) 594-6213, Email: selina.keryte@ihs.gov.

2. Questions on grants management and fiscal matters may be directed to: Andrew Diggs, Grants Management Specialist, 5600 Fishers Lane, Mail Stop: 09E70, Rockville, MD 20857, Phone: (301) 443-2241, Fax: (301) 594-0899, Email: andrew.diggs@ihs.gov.

3. Questions on systems matters may be directed to: Paul Gettys, Grant Systems Coordinator, 5600 Fishers Lane, Mail Stop: 09E70, Rockville, MD 20857, Phone: (301) 443-2114, DGM main line: (301) 443-5204, Fax: (301) 594-0899, Email: paul.gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: April 9, 2018.
Michael D. Weahkee,
Assistant Surgeon General, U.S. Public Health Service, Acting Director, Indian Health Service.

[FR Doc. 2018-08990 Filed 4-27-18; 8:45 am]

BILLING CODE 4165-16-P